DEPARTMENT OF COMMERCE

National Oceanic and Atmospheric Administration

[I.D. 020305A]

Marine Mammals; File No. 984-1587

AGENCY: National Marine Fisheries Service (NMFS), National Oceanic and Atmospheric Administration (NOAA), Commerce.

ACTION: Addendum to amendment request.

SUMMARY: Notice is hereby given that Dr. Terrie Williams, Long Marine Lab, Institute of Marine Sciences, University of California at Santa Cruz, 100 Shaffer Road, Santa Cruz, CA 95060, has requested an addendum to an amendment request to scientific research Permit No. 984-1587-03.

DATES: Written or telefaxed comments must be received on or before March 14, 2005.

ADDRESSES: The amendment request and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 984-1587-04.

FOR FURTHER INFORMATION CONTACT: Jennifer Skidmore or Amy Sloan, (301)713-2289.

SUPPLEMENTARY INFORMATION: An addendum to the amendment to Permit No. 984-1587-03, published on December 28, 2004 (69 FR 77732), is requested under the authority of the Marine Mammal Protection Act of 1972, as amended (16 U.S.C. 1361 et seq.), and the Regulations Governing the Taking and Importing of Marine Mammals (50 CFR part 216).

Permit No. 984-1587-03 authorizes the permit holder to examine the physiological responses of two adult male dolphins (Tursiops truncatus) and five adult female California sea lions (Zalophus californianus) during swimming and diving. Testing involves measuring locomotor, thermal, and maintenance costs using voluntary behaviors through training at Long Marine Laboratory. Research activities have been completed for the three adult California sea lions authorized under previous versions of this permit.

The original amendment request was to supplement the current research program on otariid reproductive energetics with two juvenile California sea lions born at Long Marine Laboratory. The addendum requests the addition of research activities on 30 male and 30 female juvenile California sea lions undergoing rehabilitation at The Marine Mammal Center. Measurements of morphology, blood panels, and blood volume will be compared between the animals at Long Marine Lab and the animals at The Marine Mammal Center to investigate growth trends.

The applicant is also requesting an amendment to investigate the formation of acoustically driven bubbles in critical tissues in bottlenose dolphins in relation to recent mass stranding events. This research will be accomplished by measuring nitrogen loading and off loading during exercise trials of the two dolphins in captivity at Long Marine Lab. An amended permit for both projects is requested for three years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: February 4, 2005.
Stephen L. Leathery,
Chief, Permits, Conservation and Education Division, Office of Protected Resources, National Marine Fisheries Service.

[FR Doc. 05-2626 Filed 2-9-05; 8:45 am]

BILLING CODE 3510-22-S